DEPARTMENT OF HEALTH AND HUMAN SERVICES

Health Resources and Services Administration

Notice of Supplemental Awards to the Territorial Health Departments of Puerto Rico, American Samoa, and U.S. Virgin Islands for the Zika Maternal and Child Health Services Program

AGENCY: Health Resources and Services Administration (HRSA), HHS.

ACTION: Notice of Supplemental Award.

SUMMARY: HRSA announces the award of supplemental grants under the Zika Response and Preparedness Act to the territorial health departments of Puerto Rico, American Samoa, and U.S. Virgin Islands to address the unmet needs of women, children, and families who are or may be affected by Zika virus (ZIKV) infection.

SUPPLEMENTARY INFORMATION:

Intended Recipient of the Award: Territorial health departments of Puerto Rico, American Samoa, and U.S. Virgin Islands.

Amount of Non-Competitive Awards: Approximately $1,050,000.

CFDA Number: 93.110.

Authority: Zika Response and Preparedness Act (Pub. L. 114-223) and Section 501(a)(2) of the Social Security Act (42 U.S.C. 701(a)(2)).

Justification: The current spread of ZIKV poses a significant threat to public health, including the health of women, children, and families who are affected by ZIKV infection. ZIKV infection during pregnancy can cause serious birth defects, especially affecting the neurological system of the infant.

Funding for these awards is available under the Zika Response and Preparedness Act through Special Projects of Regional and National Significance (SPRANS) funds.

The needs of infants and children affected by ZIKV are complex. Families, health care providers, and public health professionals will be required to work together to assure that community-based, comprehensive, high quality health and social services are available to these children. The support system must address the medical needs of these children, such as regularly screening children who may not be symptomatic at birth; coordinate care through a medical home; finance care needed by children and families; link to community-based services; partner with families; and eventually address transition to adult services. Following HRSA's December 2016 grant awards to the territorial health departments of Puerto Rico, American Samoa, and U.S. Virgin Islands, recipients continued to identify pregnant women and infants with lab evidence of ZIKV infection that led them to refine their response to ZIKV. HRSA's Maternal and Child Health Bureau (MCHB) received information from the territorial health departments of unmet needs in their response to ZIKV through monitoring site visits, regular communication, and prior approval requests. Needs identified by recipients included additional equipment, personnel, and transportation services. With further analysis of other federal funding and the current epidemiologic data, MCHB confirmed additional funding is essential to ensure access to services and a comprehensive medical home for women, children, and families who are or may be affected by ZIKV infection. Disease burden and the significant increase in pregnant women and children with lab evidence of ZIKV infection in American Samoa and the U.S. Virgin Islands was also considered as a factor in determining the allocation of funds to the territories to address unmet needs. The period of performance of the supplemental award will be September 2017 through December 2019.

FOR FURTHER INFORMATION CONTACT: Maria Paz Carlos, Division of State and Community Health, Maternal and Child Health Bureau, Health Resources and Services Administration, 5600 Fishers Lane, Room 18N104A, Rockville, Maryland 20857; MCarlos@hrsa.gov.

Grantee/organization name | Territory | FY 2017 supplemental awards
Puerto Rico Health Department | Puerto Rico | $52,850
American Samoa Health Department | American Samoa | 423,142
U.S. Virgin Islands Health Department | U.S. Virgin Islands | 574,008

Dated: August 18, 2017.
George Sigounas,
Administrator.

[FR Doc. 2017-17883 Filed 8-23-17; 8:45 am]

BILLING CODE 4165-15-P